ENVIRONMENTAL PROTECTION AGENCY

[ORD-2003-0010, FRL-7567-9]

Agency Information Collection Activities: Proposed Collection; Comment Request; Detroit Exposure and Aerosol Research Study (DEARS), EPA ICR Number 1887.01, OMB Control Number 20XX-XXXX

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before December 2, 2003.

ADDRESSES: Submit your comments, referencing docket ID number ORD-2003-0010, to EPA online using EDOCKET (our preferred method), by email to oei.docket@epa.gov, or by mail to: EPA Docket Center, Environmental Protection Agency, Office of Environmental Information Docket, Mail Code 28221T, 1200 Pennsylvania Ave., NW., Washington, DC 20460.

FOR FURTHER INFORMATION CONTACT: Barbara Blackwell, Environmental Protection Agency, MD E205-01, RTP, NC 27711; telephone number: (919) 541-2886; fax number: (919) 541-0905; email address: blackwell.barbara@epa.gov.

SUPPLEMENTARY INFORMATION: EPA has established a public docket for this ICR under Docket ID number ORD-2003-0010, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are persons living in Wayne County, MI.

Title: Detroit Exposure and Aerosol Research Study (DEARS)

Abstract: EPA's Office of Research and Development proposes to conduct a residential and personal exposure field monitoring study in the city of Detroit, MI over a three-year period from 2004 to 2006. The primary goal of the study is to evaluate and describe the relationship between air toxics and PM constituents measured at a central site monitor and measurements of residential and personal concentrations. An emphasis is placed on understanding the impact of local sources (point and mobile) on outdoor residential concentrations and the impact of housing type and house operation on indoor concentrations. Personal monitoring will be conducted to determine the impact of time spent in nonresidential locations and personal activities on exposure. Approximately 120 persons will voluntarily agree to wear certain personal air monitors and to allow their homes to be equipped with other monitors to measure indoor air quality. Each home will be monitored for five consecutive days in the summer and five consecutive days in the winter. The study is a continuation and expansion of previous OMB-approved studies of human exposure to particles, undertaken in response to recommendations of the National Academy of Sciences (EPA ICR 1887.01 and 1887.02; OMB Approval # 2080; 1997-2003). The study also extends the approach developed in the Atlanta ARIES study as recommended by Dr. John Graham of OMB.

Further details on the study design and the complete set of questionnaires are available for public viewing in the on-line EDOCKET at http://www.epa.gov/edocket. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Respondents will be asked to fill out a Time-Activity Diary which aids them in maintaining a log of activities over the course of each day. The following morning, a technician will go over their previous day's activity log with them and correct any omissions or mistakes. The time-activity diaries will take approximately 30 minutes to complete each day. In addition, a technician will administer a Follow-up questionnaire each day and will ask the participant questions about cooking and cleaning activities in the home over the previous 24 hours. This will take approximately 10 minutes a day. Over the course of five days in each of two seasons, the total time burden is estimated to be 450 minutes per respondent. There are projected to be 120 respondents.

The cost to each respondent will be the electrical power consumed in operating the indoor monitors. This has been estimated to amount to $5/day. Respondents will be reimbursed for this cost. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: September 24, 2003.
Jewel F. Morris,
Acting Director, National Exposure Research Laboratory.

[FR Doc. 03-25131 Filed 10-2-03; 8:45 am]

BILLING CODE 6560-50-P